INTERNATIONAL TRADE COMMISSION

[Investigation No. 731-TA-1094 (Final)]

Metal Calendar Slides From Japan

AGENCY: United States International Trade Commission.

ACTION: Revised schedule for the subject investigation.

DATES: Effective Date: March 22, 2006.

FOR FURTHER INFORMATION CONTACT: Joanna Lo (202-205-1888), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

SUPPLEMENTARY INFORMATION: On February 1, 2006, the Commission established a schedule for the conduct of the final phase of the subject investigation (71 FR 7574, February 13, 2006). Subsequently, the Department of Commerce extended the date for its final determination in the investigation from April 17, 2006 to June 16, 2006 (71 FR 13091, March 14, 2006). The Commission, therefore, is revising its schedule to conform with Commerce's new schedule.

The Commission's new schedule for the investigation is as follows: requests to appear at the hearing must be filed with the Secretary to the Commission not later than June 12, 2006; the prehearing conference will be held at the U.S. International Trade Commission Building at 9:30 a.m. on June 14, 2006; the prehearing staff report will be placed in the nonpublic record on June 5, 2006; the deadline for filing prehearing briefs is June 13, 2006; the hearing will be held at the U.S. International Trade Commission Building at 9:30 a.m. on June 22, 2006; the deadline for filing posthearing briefs is June 29, 2006; the Commission will make its final release of information on July 13, 2006; and final party comments are due on July 17, 2006.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

Issued: March 23, 2006.
By order of the Commission.
Marilyn R. Abbott,
Secretary to the Commission.

[FR Doc. E6-4474 Filed 3-27-06; 8:45 am]

BILLING CODE 7020-02-P